DEPARTMENT OF COMMERCE

National Oceanic and Atmospheric Administration

RIN 0648-XE041

Marine Mammals; File No. 19091

AGENCY: National Marine Fisheries Service (NMFS), National Oceanic and Atmospheric Administration (NOAA), Commerce.

ACTION: Notice; receipt of application.

SUMMARY: Notice is hereby given that the NMFS Southwest Fisheries Science Center (SWFSC), 8901 La Jolla Shore Dr., La Jolla, CA 92037, [Responsible Party: Lisa Ballance, Ph.D.], has applied in due form for a permit to conduct research on five species of pinnipeds, over 50 species of cetaceans, and five species of sea turtles.

DATES: Written, telefaxed, or email comments must be received on or before August 28, 2015.

ADDRESSES: The application and related documents are available for review by selecting “Records Open for Public Comment” from the “Features” box on the Applications and Permits for Protected Species (APPS) home page, https://apps.nmfs.noaa.gov, and then selecting File No. 19091 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Brendan Hurley, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The SWFSC proposes to conduct research on over 55 species of marine mammals and five species of sea turtles in all oceans of the world, with special focus on the eastern Pacific Ocean. This includes research on ESA listed species: North Atlantic right (Eubalaena glacialis), North Pacific right (E. japonica), Southern right (E. australis), bowhead (Balaena mysticetus), sei (Balaenoptera borealis), Southern resident killer (Orcinus orca), humpback (Megaptera novaeangliae), fin (Balaenoptera physalus), sperm (Physeter macrocephalus), and blue (Balaenoptera musculus) whales; Steller sea lions (Eumetopias jubatus); and green (Chelonia mydas), hawksbill (Eretmochelys imbricata), leatherback (Dermochelys coriacea), loggerhead (Caretta caretta), and olive ridley (Lepidochelys olivacea) sea turtles. The purpose of this research is to determine the abundance, distribution, movement patterns, dive behavior, demography and stock structure, and to monitor trends in recruitment of pinnipeds, cetaceans, and sea turtles in U.S. territorial and international waters as mandated by the MMPA and ESA. These studies are conducted through ground, vessel, and aerial surveys for observation, photogrammetry, photo-identification, biological sample collection, and tagging animals. Researchers also may salvage and import/export specimens and biological samples of these species.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 23, 2015.
Julia Harrison,
Chief, Permits and Conservation Division, Office of Protected Resources, National Marine Fisheries Service.

[FR Doc. 2015-18549 Filed 7-28-15; 8:45 am]

BILLING CODE 3510-22-P